ENVIRONMENTAL PROTECTION AGENCY

[ER-FRL-8597-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/. An explanation of the ratings assigned to draft environmental impact statements (EISs) was published in FR dated July 17, 2009 (74 FR 34754).

Draft EISs

EIS No. 20080518, ERP No. D-BLM-K67058-NV, Bald Mountain Mine Northern Operations Area Project, Proposes to Expand Current Mining Operations at several Existing Pits, Rock Disposal Areas, Heap Leach Pads, Processing Facilities, and Interpit Area, Combining the Bald Mountain Mine Plan of Operations Boundary and the Mooney Basin Operation Area Boundary, White Pine County, NV.

Summary: EPA expressed environmental objections because waste rock from several pits could generate leachate with high concentrations of metals and metalloids, and degrade water quality if the leachate should reach groundwater or surface waters, or if pit lakes would form. Also, EPA expressed concerns about potential impacts to air quality and the lack of suitable soil for reclamation. EPA recommends the additional information on waste rock geochemical characterization, potential impacts to water and air resources, mitigation and monitoring, and closure and reclamation. Rating EO2.

EIS No. 20090047, ERP No. D-COE-E39076-AL, Foley Land Cut Portion of the Gulf Intracoastal Waterway, Proposed Construction of Residential, Commercial and Marine Development, Gulf Shores and Orange Beach, Baldwin County, AL.

Summary: EPA expressed environmental concerns about water quality and hydrological impacts. Specific BMPs designed to minimize water quality impacts should be included in each permit application as a special condition of the permit. Rating EC2.

EIS No. 20090123, ERP No. D-FHW-E40824-MS, Greenville Connector Project, from Relocated US 82 to Proposed I-69 Corridor south of Benoit, City of Greenville. Washington and Bolivar Counties, MS.

Summary: EPA expressed concern about wetland and stream impacts, flood storage loss, and noise impacts, and requested additional avoidance, minimization, and/or mitigation measures for these impacts. EPA also recommended commitments to bridge or narrow the ROW width, wherever possible, over major aquatic resources. Rating EC2.

EIS No. 20090190, ERP No. D-AFS-L65572-OR, Wallowa-Whitman National Forest Travel Management Plan, Designate Roads Trails and Areas for Motor Vehicle User, Baker, Grant, Umatilla, Union and Wallowa Counties, OR.

Summary: EPA expressed environmental concerns about potential impacts to water quality, fisheries, riparian habitat and soils, and recommended increased protective measures for water quality. Rating EC2.

EIS No. 20090198, ERP No. D-AFS-K65371-CA, Shasta-Trinity National Forest Motorized Travel Management Project, Proposal to Prohibit Cross-County Motor Vehicle Travel off Designated National Forest Transportation System (NFTS) Roads, Motorized Trails and Areas by the Public Except as Allowed by Permit or other Authorization (excluding snowmobile use), CA.

Summary: EPA expressed environmental concerns about the scope of the travel management planning process and potential impacts on water quality and cultural resources. Rating EC2.

Final EISs

EIS No. 20090268, ERP No. F-BLM-L65545-ID, Three Rivers Stone Quarry Expansion Project, Proposing to Expand the Quarry Operation up to an Additional 73 Acres to Increase Mine Production of Flaystone, Custer County, ID.

Summary: EPA continues to have environmental concerns about water quality impacts from potential stormwater ponds being breached and spills. EPA recommends that contingency measures be included to control high flood events and prevent contamination to surface water.

EIS No. 20090271, ERP No. F-GSA-K40271-CA, San Ysidro Land Port of Entry (LPOE) Improvement Project, Propose the Configuration and Expansion of the Existing (LPOE), San Ysidro, CA.

Summary: EPA continues to have environmental concerns about air quality impacts from increased congestion; project impacts to port access by pedestrians, cyclists, and transit; and environmental justice.

EIS No. 20090274, ERP No. F-FHW-K40266-CA, Marin-Sonoma Narrows (MSN) HOV Widening Project, Propose to Relieve Recurrent Congestion along US 101 south of the Route 37 Interchange in the City of Novato (Marin County) and ends north of the Corona Road Overcrossing in the City of Petaluma (Sonoma County), Marin and Sonoma Counties, CA.

Summary: EPA does not object to the proposed project, but encourages project sponsors to continue efforts to minimize impacts to wetlands and waters through project design modifications where possible.

EIS No. 20090275, ERP No. F-FHW-E40814-KY, I-65 to US 31 W Access Improvement Project, To Meet the Existing and Future Transportation Demand, in northeast Bowling Green, Warren County, KY.

Summary: EPA continues to have environmental concern about groundwater and karst topography impacts, and requested additional mitigation to reduce these impacts.

EIS No. 20090291, ERP No. F-SFW-K64027-NV, Desert National Wildlife Refuge Complex, Ash Meadows, Desert, Moapa Valley, and Pahranagat National Wildlife Refuges, Comprehensive Conservation Plan, Implementation, Clark, Lincoln, and Nye Counties, NV.

Summary: EPA does not object to the proposed project.

EIS No. 20090292, ERP No. F-USA-K11117-CA, Camp Parks Real Property Master Plan and Real Property Exchange, Redevelopment of the Cantonment Area, NPDES Permit, US COE Section 4040 Permit, Alamada and Contra Costa Counties, CA.

Summary: EPA does not object to the proposed action.

EIS No. 20090276, ERP No. FS-COE-L90019-WA, Commencement Bay “Reauthorization” of Dredged Material Management Program Disposal Site, Implementation, Central Puget Sound, Tacoma, WA.

Summary: EPA's previous issues have been resolved; therefore, EPA does not object to the proposed action.

Dated: September 29, 2009.
Robert W. Hargrove,
Director, NEPA Compliance Division, Office of Federal Activities.

[FR Doc. E9-23823 Filed 10-1-09; 8:45 am]

BILLING CODE 6560-50-P